DEPARTMENT OF TRANSPORTATION

Federal Aviation Administration

14 CFR Part 71

Planned Establishment of the Sanford Airport Class C Airspace Area, Sanford, FL, and Modification of the Orlando International Airport Class B Airspace Area, FL

AGENCY: Federal Aviation Administration (FAA), DOT.

ACTION: Notice of public meetings.

SUMMARY: This document announces two fact-finding informal airspace meetings to solicit information from airspace users, and others, concerning a plan to establish a Class C airspace area at the Orlando-Sanford International Airport, Sanford, FL, and to modify the Orlando, FL, Class B airspace area. This planned establishment of a Class C airspace area is expected to increase the level of safety and efficiency in that airspace; and, the planned modification of the Class B airspace area at the Orlando International Airport, FL, is expected to make the Orlando Class B airspace area's design more efficient and user-friendly. The planned modifications are a result of a 6-month review of the Sanford Class D airspace area and the Orlando Class B airspace area. The purpose of these meetings is to provide interested parties an opportunity to present views, recommendations, and comments on the plan to establish a Class C airspace area at the Orlando-Sanford International Airport, Sanford, FL, and the planned modification the Orlando, FL, Class B airspace area. All comments received during these meetings will be considered prior to any revision or issuance of a notice of proposed rulemaking.

DATES: These informal airspace meetings will be held on Thursday, November 6, 2003, from 7 p.m.-10 p.m.; and Friday, November 7, 2003, at 7 p.m.-10 p.m. Comments must be received on or before December 8, 2003.

ADDRESSES: On Thursday, November 6, the meeting will be held at the Orlando-Sanford International Airport, Terminal A, Vigilante Room, 1200 Red Cleveland Blvd, Sanford, FL. On Friday, November 7, the meeting will be held at the Orlando Airport Marriott, 7499 Augusta National Drive, Orlando, FL.

Comments: Send comments on the proposal in triplicate to: Manager, Air Traffic Division, Southern Region, ASO-500, Federal Aviation Administration, P.O. Box 20636, Atlanta, GA 30320.

FOR FURTHER INFORMATION CONTACT: Donna Gropper, Manager, Orlando International Airport Traffic Control Tower, Orlando International Airport, 9399 Airport Blvd., Orlando, FL, telephone (407) 852-7500.

SUPPLEMENTARY INFORMATION:

Meeting Procedures

(a) These meetings will be informal in nature and will be conducted by one or more representatives of the FAA Southern Region. A representative from the FAA will present a formal briefing on the planned establishment of a Class C airspace area at the Orlando-Sanford International Airport, Sanford, FL, and modification of the Orlando, FL, Class B airspace area. Each participant will be given an opportunity to deliver comments or make a presentation at the meetings. Only comments concerning the plan to establish a Class C at the Orlando-Sanford Airport, Sanford, FL, and to modify the Orlando, FL, Class B airspace area will be accepted.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present and original and two copies (3 copies total) to the presiding officer. There should be additional copies of each handout available for other attendees.

(f) These meetings will not be formally recorded.

Agenda for the Meetings

—Presentation of Meeting Procedures.

—Presentation on the planned establishment of a Class C airspace area at the Orlando-Sanford International Airport, Sanford, FL, and the planned modification of the Class B airspace area at the Orlando International Airport, Orlando, FL.

—Public Presentations and Discussions.

—Closing Comments.

Issued in Washington, DC, on September 8, 2003.
Reginald C. Matthews,
Manager, Airspace and Rules Division.

[FR Doc. 03-23294 Filed 9-12-03; 8:45 am]

BILLING CODE 4910-13-P